DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before July 28, 2011.

ADDRESSES: You may submit your comments, identified by “docket number” on the subject line, by any of the following methods:

1. Electronic Mail: zzMSHA-comments@dol.gov. Include the docket number of the petition in the subject line of the message.

2. Facsimile: 202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2011-004-M.

Petitioner: Troy Mine, Inc., P.O. Box 1660, Highway 56 South Mine Road, Troy, Montana 59935.

Mine: Troy Mine, MSHA Mine I.D No. 24-01467, located in Lincoln County, Montana.

Regulation Affected: 30 CFR 57.11052(d) (Refuge areas).

Modification Request: The petitioner requests a modification of the existing standard to not use compressed air lines as the means of providing air for the underground refuge chamber, and not to use waterlines as the means of providing water for the underground refuge chamber. The petitioner states that: (1) The Troy Mine is an underground room and pillar mine with five stratabound copper/silver ore horizons dipping at approximately four (4) degrees (7% grade) and is accessed through adits from the surface. (2) The refuge chamber is designed to sustain 12 miners for 36 hours during a mine emergency. The refuge chamber is presently located in the “C” Bed 59 I crosscut. The unit is portable and future plans are to relocate the chamber. The refuge chamber has a battery back-up system in the event of a power failure in the mine. The refuge chamber will be inspected monthly and documented by the Safety Department. A flashing light was installed and is activated when the outer air lock door is initially opened ensuring that the refuge chamber has not been tampered with. All miners affected have received training in the operation of the refuge chamber and will receive refresher training annually and/or when the refuge chamber has been relocated. (3) Compressed air is not in use underground with the exception of a Speed Air 49 CFM air compressor at the underground Shop Pad and integral air compressors on mobile equipment. A Cambel Hausfield-1 CFM pancake air compressor was installed on the refuge chamber. The air compressors are vulnerable to power failure and damage. (4) Two “T” size compressed medical grade oxygen cylinders are provided with the carbon dioxide (CO2) scrubber system. In addition, four “T” size compressed breathing quality air cylinders are available in the air-locked area. The compressed medical oxygen and compressed air cylinders are secured within the refuge chamber and would not be vulnerable to damage or power failure. The medical grade oxygen cylinders and CO2 scrubber system will at all times guarantee the miners affected no less than the same measure of protection afforded by the standard. (5) For waterlines, two groundwater wells feed a water tank at an elevation of 3,830 feet located on the surface. Chlorination of the mine site potable water is not necessary due to the purity of the groundwater. The surface buildings of the mine site are supplied with potable water from the gravity feed water tank. Due to the positive elevation difference between the water tank and the top of the service adit, a water line would not lend itself to gravity feed. The shortage haulage route from the water tank located on the surface to the refuge chamber presently located in the “C” Bed 59 I crosscut is 11,495 feet. Waterlines provided to the refuge chamber from the surface are vulnerable to damage. There can be no guarantee of bacteria-free potable water in the 11,495 foot long waterline, posing a credible threat of disease to miners. (6) Abundant quantities of individually portioned 16.9 fluid ounce bottled water have been provided in the refuge chamber for the miner's use in an emergency. According to MSHA's underground coal mine standards, a minimum 2.25 quarts (72 fluid ounces) of water is required per miner per day. This is equivalent to 1,296 fluid ounces for 12 miners for 36 hours. The bottled water is not vulnerable to damage or power failure. The bottled water will at all times guarantee the miners affected no less than the same measure of protection afforded by the standard. The petitioner asserts that the proposed alternative method will at all times guarantee no less than the same measure of protection afforded by the existing standard with no diminution of safety to the miners.

Docket Number: M-2011-019-C.

Petitioner: Tunnel Ridge, LLC, 2596 Battle Run Road, Triadelphia, West Virginia 26059.

Mine: Tunnel Ridge Mine, MSHA Mine I.D No. 46-08864, located in Ohio County, West Virginia.

Regulation Affected: 30 CFR 75.1700 (Oil and gas wells).

Modification Request: The petitioner requests a modification of the existing standard to permit an alternative method of compliance for leaving barrier pillars around oil and gas wells. The petitioner proposes to mine through oil and gas wells in the Pittsburg 8 coal bed. As an alternative to leaving 300-foot diameter coal barriers, the petitioner proposes to use the following procedures when plugging oil and gas wells: (1) Prior to plugging an oil or gas well, a diligent effort will be made to clean the borehole to the original total depth. If this depth cannot be reached, the borehole will be cleaned out to a depth which would permit the placement of at least 200 feet of expanding cement below the base of the lowest economically feasible mineable coal bed; (2) when cleaning the borehole, a diligent effort will be made to remove all the casing in the borehole. If it is not possible to remove all casing, the casing that remains will be perforated or ripped at intervals spaced close enough to permit expanding cement slurry to infiltrate the annulus between the casing and the borehole wall for a distance of at least 200 feet below the base of the lowest economically feasible mineable coal bed; (3) if the cleaned-out borehole produces gas, a mechanical bridge plug will be placed in the borehole in a competent stratum at least 200 feet below the base of the lowest economically feasible mineable coal bed, but above the top of the uppermost hydrocarbon-producing stratum. If it is not possible to set a mechanical bridge plug, a substantial brush plug may be used in place of the mechanical bridge plug; (4) a suite of logs will be made consisting of a caliper survey, directional deviation survey, and log(s) suitable for determining the top and bottom of the lowest economically feasible mineable coal bed and potential hydrocarbon-producing strata and the location for the bridge plug; (5) if the uppermost hydrocarbon-producing stratum is within 200 feet of the base of the lowest economically feasible mineable coal bed, properly placed mechanical bridge plugs or a suitable brush plug will be used to isolate the hydrocarbon-producing stratum from the expanding cement plug. Nevertheless, a minimum of 200 feet of expanding cement will be placed below the lowest economically feasible mineable coal bed; and (6) the wellbore will be completely filled and circulated with a gel that inhibits any flow of gas, supports the walls of the borehole, and increases the density of the expanding cement. This gel will be pumped through open-end tubing that will run to a point approximately 20 feet above the bottom of the cleaned out area of the borehole or bridge plug. In addition, the petitioner proposes to use the following procedures when plugging gas or oil wells to the surface: (1) A cement plug will be set in the wellbore by pumping an expanding cement slurry down the tubing to displace the gel and fill the borehole to the surface. As an alternative, the cement slurry may be pumped down the tubing so that the borehole is filled with Portland cement or a Portland cement-fly ash mixture from a point approximately 100 feet above the top of the lowest economically feasible mineable coal bed to the surface with an expanding cement plug extending from at least 200 feet below the lowest economically feasible mineable coal bed to the bottom of the Portland cement. There will be at least 200 feet of expanding cement below the base of the lowest economically feasible mineable coal bed; and (2) a small quantity of steel turnings or other small magnetic particles will be embedded in the top of the cement near the surface to serve as a permanent magnetic monument of the borehole. The petitioner also proposes to use the following procedures when using the vent pipe method for plugging oil and gas wells: (1) A 4½ inch or larger vent pipe will run into the wellbore to a depth of 100 feet below the lowest economically feasible mineable coal bed and swedged to a smaller diameter pipe, if desired, which will extend to a point approximately 20 feet above the bottom of the cleaned out area of the borehole or bridge plug; (2) a cement plug will be set in the wellbore by pumping expanding cement slurry, Portland cement, or a Portland cement-fly ash mixture down the tubing to displace the gel so that the borehole is filled with cement. The borehole and the vent pipe will be filled with expanding cement for a minimum of 200 feet below the base of the lowest economically feasible mineable coal bed. The top of the expanding cement will extend upward to a point approximately 100 feet above the top of the lowest economically feasible mineable coal bed; (3) all fluid will be evacuated from the vent pipe to facilitate testing for gases. During the evacuation of fluid, the expanding cement will not be disturbed; (4) the top of the vent pipe will be protected to prevent liquids or solids from entering the wellbore, but permit ready access to the full internal diameter of the vent pipe when necessary. Furthermore, the petitioner proposes to use the following procedures when plugging oil or gas wells for subsequent use as degasification boreholes: (1) A cement plug will be set in the wellbore by pumping an expanding cement slurry down the tubing to displace the gel and provide at least 200 feet of expanding cement below the lowest economically feasible mineable coal bed. The top of the expanding cement will extend upward to a point above the top of the coal bed being mined. This distance will be based on the average height of the roof strata breakage for the mine; (2) to facilitate methane drainage, degasification casing of suitable diameter, slotted or perforated throughout its lower 150 to 200 feet, will be set in the borehole to a point 10 to 30 feet above the top of the expanding cement; (3) the annulus between the degasification casing and the borehole wall will be cemented from a point immediately above the slots or perforations to the surface; (4) the degasification casing will be cleaned out for its total length; (5) the top of the degasification casing will be fitted with a wellhead equipped as required by the District Manager (DM). Such equipment may include check valves, shut-in valves, sampling ports, flame arrestor equipment and security fencing. The petitioner proposes that: (1) Prior to reducing the safety barrier to a distance less than the DM would approve or proceeding with an intent to cut through a plugged well, the operator will notify the DM or his designee. (2) Mining in close proximity or through a plugged well will be done on a shift approved by the DM or designee. The DM or designee and the representative of miners' and the appropriate State agency will be notified by the operator in sufficient time prior to the mining-through operation in order to provide an opportunity to have representatives present. (3) When using continuous mining equipment, drivage sights will be installed at the last open crosscut near the place to be mined to ensure intersection of the well. The drivage sights will not be more than 50 feet from the well. When using longwall mining methods, drivage sights will be installed on 10-foot centers for a distance of 50 feet in advance of the wellbore. The drivage sights will be installed in the headgate and/or tailgate. (4) Firefighting equipment, including fire extinguishers, rock dust, and sufficient fire hose to reach the working face area of the mining-through will be available when either the conventional or continuous mining method is used. The fire hose will be located in the last open crosscut of the entry or room. All fire hoses will be ready for operation during the mining-through. (5) Sufficient supplies of roof support and ventilation materials will be available and located at the last open crosscut. In addition, an emergency plug and/or plugs will be available in the immediate area of the cut-through. (6) The quantity of air required by the approved mine ventilation plan, but not less than 6,000 cubic feet per minute for scrubber equipped continuous miners or not less than 9,000 cubic feet per minute for continuous miner sections using auxiliary fans or line brattice only, will be used to ventilate the working face during the mining-through operation. The quantity of air required by the ventilation plan, but not less than 30,000 cubic feet per minute, will reach the working face of each future longwall during the mine-through operation. (7) Equipment will be checked for permissibility and serviced on the shift prior to mining through the well. The methane monitor(s) on the continuous mining machine or the longwall shear and face will be calibrated on the shift prior to mining through the well. (8) When mining is in progress, tests for methane will be made with a hand-held methane detector at least every 10 minutes from the time mining with the continuous mining machine is within 30 feet of the well until the well is intersected and immediately prior to mining-through. When mining with longwall mining equipment, the tests for methane will be made at least every 10 minutes when the longwall face is within 10 feet of the well. During the actual cutting through process no individual will be allowed on the return side until mining through has been completed and the area has been examined and declared safe. (9) When using continuous mining methods, the working place will be free from accumulations of coal dust and coal spillages. Rock dust will be placed on the roof, rib and floor to within 20 feet of the face when mining through or near the well on the shift or shifts during which the cut-through will occur. On longwall sections, rock dusting will be conducted and placed on the roof, rib, and floor up to both headgate and tailgate gob. (10) When the wellbore is intersected, all equipment will be deenergized and the place thoroughly examined and determined safe before mining is resumed. Any well casing will be removed and no open flame will be permitted in the area until adequate ventilation has been established around the wellbore. (11) After a well has been intersected and the working place determined safe, mining will continue inby the well at a sufficient distance to permit adequate ventilation around the area of the wellbore. (12) No person will be permitted in the mining-through area except those actually engaged in the operation, company personnel, personnel from MSHA, and personnel from the appropriate State agency. (13) The mining-through operation will be under the direct supervision of a certified official. Instructions concerning the mining-through operation will be issued only by the certified official in charge. (14) A copy of the proposed decision and order will be maintained at the mine and available to the miners. (15) The petitioner will file a plugging affidavit setting forth the persons who participated in the work, a description of the plugging work, and a certification by the petitioner that the well has been plugged as described. (16) Within 60 days after the proposed decision and order (PDO) becomes final, proposed revisions for the approved part 48 training plans will be submitted to the DM. The proposed revisions will include initial and refresher training regarding compliance with the terms and conditions in the PDO. The petitioner asserts that the proposed alternative method will at all times provide no less than the same measure of protection afforded by the existing standard.

Docket Number: M-2011-020-C.

Petitioner: Luminant Mining Company, 500 N. Akard St., Dallas, Texas 75201.

Mine: Kosse Strip Mine, MSHA I.D. No. 41-04586, located in Limestone County, Texas; Three Oaks Strip Mine, MSHA I.D. No. 41-04085, located in Lee County, Texas; Turlington Strip Mine, MSHA I.D. No. 41-04802, located in Freestone County, Texas; Leesburg Strip Mine, MSHA I.D. No. 41-04444, located in Titus County, Texas; and Bremond Strip Mine, MSHA I.D. No. 41-02788, located in Robertson County, Texas.

Regulation Affected: 30 CFR 77.803 (Fail safe ground check circuits on high-voltage resistance grounded systems).

Modification Request: The petitioner requests a modification of the existing standard to permit an alternative method of compliance when the boom/mast is raised or lowered during necessary repairs. The petitioner state that it realizes that some stages of assembly/disassembly of draglines require special consideration when the boom/mast is raising/lowering into position. The boom is raised/lowered utilizing the on-board motor generator sets, which is critical because during this time power to the machine, as much as possible, must not be interrupted. Power loss may result in the boom becoming uncontrolled and falling, and could injure workers. To address this condition, the following guidelines are proposed to be used to help prevent loss of power to the machine. This procedure only addresses raising/lowering the boom of draglines utilizing the machine's electrical onboard motor generator sets. It does not replace other mechanical precautions or the requirements of 30 CFR 77.405(b) that are necessary to safely secure booms/masts during construction or maintenance procedures. (1) The petitioner proposes to develop and implement written procedures that will: (a) Limit the number of persons needed on board the machine during the boom/mast raising/lowering. Only those persons critical to performing necessary functions will be permitted on board the machine. (b) Explain the methods to be used to prevent off-board persons from contacting the frame cable of the machine. The area around the machine would be roped off or guarded. (c) Prohibit other work activities in close proximity to the machine during the boom/mast operation. (d) Establish a responsible person(s) at the work site familiar with all the requirements and able to communicate at all times with the qualified person(s) at the substation. The responsible person(s) must remain at the work site during the boom/mast raising/lowering. (e) Ensure that all persons involved with the boom/mast raising/lowering are familiar with the safety precautions. (2) An MSHA- qualified electrician must complete an examination of all electrical components that will be energized during the boom raising/lowering process. The examination must be done within 2 hours prior to the boom raising/lowering process. A record of the examination must be made available for review. The machine must be deenergized to perform this examination. (3) After the examination has been completed, electrical components necessary to complete the boom raising/lowering process must be energized to assure they are operating properly as determined by the MSHA-qualified electrician. (4) The ground fault and ground check circuits may be disabled provided: (a) the internal ground conductor of the trailing cable has been tested and is continuous from the frame of the dragline to the grounding resistor located at the substation. Utilizing the ground check circuit and disconnecting the pilot circuit and the machine frame and verifying the circuit breaker cannot be closed will be an acceptable test. Resistance measurements can also be used to assure the ground conductor is continuous. The ground resistor must be tested to assure it is properly connected and is not open or shorted; (b) normal short circuit protection must be provided at all times. The overcurrent relay setting may be increased up to 100% above its normal setting. (5) During the boom raising/lowering procedure an MSHA-qualified electrician will be positioned at the substation and dedicated to monitoring the grounding circuit. The qualified person(s) will be able to detect a grounded phase condition or an open ground conductor without being exposed to shock hazards. The person(s) at the substation will at all times maintain communications with a responsible person at the dragline. If a grounded phase condition or an open ground wire should occur during the process, the person at the substation will notify the responsible person at the dragline. All persons on board the machine must be aware of the condition and must remain on board the machine. The boom must be controlled and the electrical circuit deenergized until the condition is corrected. The ground fault and ground check circuits must be reinstalled prior to reenergizing and testing. Once the circuits have been tested and no adverse conditions are present, the boom raising/lowering procedure may be resumed. (6) During the boom raising/lowering procedure, persons are not permitted to get on/off the dragline while the ground check and ground fault circuits are disabled unless the circuit to the dragline is de-energized, locked and tagged out as verified by the qualified person at the substation. (7) After the boom raising/lowering is completed the responsible person at the dragline will notify the qualified person(s) at the substation. The qualified person(s) will deenergized the circuit and restore the protective relays to their normal setting. Prior to reenergizing the circuit for normal operation, the circuit and its protective relays will be tested and examined as described in 30 CFR 77.800-1. The ground check will be tested by opening the ground check circuit at the machine to verify the circuit breaker cannot be closed. A record of the test and examination will be recorded as described in 30 CFR 77.800-1. Following completion of the test and examination, normal work can begin. The petitioner asserts that the proposed alternative method will provide the same degree of safety for the miners as the existing standard.

Docket Number: M-2011-021-C.

Petitioner: Buckskin Mining Company (Previously Triton Coal Company), P.O. Box 3027, Gillette, Wyoming 82717-3027.

Mine: Buckskin Mine, MSHA I.D. No. 48-01200, located in Campbell County, Wyoming.

Regulation Affected: 30 CFR 77.1607(u) (Loading and haulage equipment; operation).

Modification Request: The petitioner requests a variance from the existing standard for towing of haul trucks (presently 140-190 tons), and other large off-highway surface mine equipment. The petitioner states that the tow bar presently used for towing weighs 1,500 pounds and requires some type of crane and two or three miners to install. The miners must be close to this suspended load and between two large mobile units to correctly position and pin the tow bar. The petitioner proposes to use a portable hydraulic unit that will supply power to the necessary functions of the disabled equipment to move it safely. The petitioner proposes to provide proper task training to every miner who will have the responsibility of using the equipment, which include training in the steering and braking systems of the equipment and in the towing procedures that will be used. The petitioner states that: (1) During the towing process, if anything should fail, the disabled equipment's brakes will automatically engage, stopping all towing procedures; (2) one miner only will be needed to attach a choker cable from the towing equipment to the disabled equipment, and the miner will have limited exposure between the equipment; (3) wheel chocks will be used when necessary and radio communication will be maintained between all the miners involved; (4) the maximum grade that would be encountered while towing a piece of equipment is 10 percent, which could be either up or down. The typical rolling resistance varies widely throughout the mine site, as do the grades; and (5) the maximum towing distance anticipated in the foreseeable future is 2.2 miles. The maximum towing distance anticipated during life of the mine is approximately 3 miles (all on mine property). The petitioner provided a complete list of procedures that will be utilizing when towing disabled heavy equipment, and a complete description of the steering and braking systems of the equipment. Persons may review these procedures at the MSHA address listed in this notice. The petitioner asserts that this variance from the existing standards will enhance the safety of the employees at the Buckskin Mine.

Dated: June 22, 2011.
Patricia W. Silvey,
Certifying Officer.

[FR Doc. 2011-16083 Filed 6-27-11; 8:45 am]

BILLING CODE 4510-43-P